ENVIRONMENTAL PROTECTION AGENCY

[EPA-HQ-OAR-2002-0091: FRL-9988-30-OEI]

Information Collection Request Submitted to OMB for Review and Approval; Comment Request; Ambient Air Quality Surveillance (Renewal)

AGENCY: Environmental Protection Agency (EPA).

ACTION: Notice.

SUMMARY: The Environmental Protection Agency (EPA) has submitted an information collection request (ICR), Ambient Air Quality Surveillance (EPA ICR Number 0940.29, OMB Control Number 2060-0084) to the Office of Management and Budget (OMB) for review and approval in accordance with the Paperwork Reduction Act. This is a proposed extension of the ICR, which is currently approved through March 31, 2019. Public comments were previously requested via the Federal Register on September 4, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before March 25, 2019.

ADDRESSES: Submit your comments, referencing Docket ID Number EPA-HQ-OAR-2002-0091, to (1) EPA online using www.regulations.gov (our preferred method), by email to A-and-R-docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Laurie Trinca, Air Quality Assessment Division, Office of Air Quality Planning and Standards, C304-06, Environmental Protection Agency, Research Triangle Park, NC 27711; telephone number: 919-541-0520; fax number: 919-541-1903: email address: trinca.laurie@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The data collected through this information collection consist of ambient air concentration measurements for the seven air pollutants with national ambient air quality standards (i.e., ozone, sulfur dioxide, nitrogen dioxide, lead, carbon monoxide, PM2.5 and PM10), ozone precursors, meteorological variables at a select number of sites and other supporting measurements. Accompanying the pollutant concentration data are quality assurance/quality control data and air monitoring network design information.

The U.S. EPA and others (e.g., state and local air quality management agencies, tribal entities, environmental groups, academic institutions, industrial groups) use the ambient air quality data for many purposes. Some of the more prominent uses include informing the public and other interested parties of an area's air quality, judging an area's (e.g., county, city, neighborhood) air quality in comparison with the established health or welfare standards (including both national and local standards), evaluating an air quality management agency's progress in achieving or maintaining air pollutant levels below the national and local standards, developing and revising State Implementation Plans (SIPs) in accordance with 40 CFR 51, evaluating air pollutant control strategies, developing or revising national control policies, providing data for air quality model development and validation, supporting enforcement actions, documenting episodes and initiating episode controls, air quality trends assessment, and air pollution research.

The state and local agencies and tribal entities with responsibility for reporting ambient air quality data and information as requested in this ICR submit these data electronically to the U.S. EPA's Air Quality System (AQS) database. Quality assurance/quality control records and monitoring network documentation are also maintained by each state and local agency, in AQS electronic format where possible.

Although the state and local air pollution control agencies and tribal entities are responsible for the operation of the air monitoring networks, the EPA funds a portion of the total costs through federal grants. These grants generally require an appropriate level of contribution, or “match,” from the state/local agencies or tribal entities. The costs shown in this renewal are the total costs incurred for the monitoring program regardless of the source of the funding. This practice of using the total cost is consistent with prior ICR submittals and renewals.

Form Numbers: None.

Respondents/affected entities: State, local and Tribal Air Pollution Control Agencies.

Respondent's obligation to respond: Mandatory (40 CFR part 58).

Estimated number of respondents: 168 (total).

Frequency of response: Quarterly.

Total estimated burden: 1,771,662 hours (per year). Burden is defined at 5 CFR 1320.03(b).

Total estimated cost: $215,352,864 (per year), includes $81,263,356 annualized capital or operation & maintenance costs.

Changes in the Estimates: There is a decrease of 18,359 hours in the total estimated respondent burden compared with the ICR currently approved by OMB. This decrease is due to a change in program requirements as well as adjustments to the estimates (e.g. to account for inflation, network growth/shrinkage, etc.

Courtney Kerwin,
Director, Regulatory Support Division.

[FR Doc. 2019-03062 Filed 2-21-19; 8:45 am]

BILLING CODE 6560-50-P